DEPARTMENT OF HOMELAND SECURITY

Transportation Security Administration

Extension of Agency Information Collection Activity Under OMB Review: National Explosives Detection Canine Team Program (NEDCTP) Handler Training Assessment Survey (Formerly Named: Graduate Training Feedback Form)

AGENCY: Transportation Security Administration, DHS.

ACTION: 30-day Notice.

SUMMARY: This notice announces that the Transportation Security Administration (TSA) has forwarded the Information Collection Request (ICR), Office of Management and Budget (OMB) control number 1652-0041 abstracted below, to OMB for review and approval of an extension of the currently approved collection under the Paperwork Reduction Act (PRA). The ICR describes the nature of the information collection and its expected burden. TSA published a Federal Register notice, with a 60-day comment period soliciting comments, of the following collection of information on December 13, 2012, 77 FR 74201. No comments were received in response to the notice. The collection involves the electronic submission of numerical ratings and written comments about the quality of training instruction from students who graduate from the Federal Air Marshal Service (FAMS)/Canine Training and Evaluation Section (CTES) Explosives Detection Canine Handlers Course, Passenger Screening Canine Handler Course and the Supervisor/Trainer Seminars.

DATES: Send your comments by April 26, 2013. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Susan L. Perkins, TSA PRA Officer, Office of Information Technology (OIT), TSA-11, Transportation Security Administration, 601 South 12th Street, Arlington, VA 20598-6011; telephone (571) 227-3398; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Handler Training Assessment Survey and Supervisor/Trainer Assessment Survey.

Type of Request: Extension of a currently approved collection.

OMB Control Number: 1652-0041.

Forms(s): TSA Form 1935-1.

Affected Public: State and local law enforcement officers as well as TSA personnel who are trained to be TSA National Explosives Detection Canine Team Program (NEDCTP) canine handlers.

Abstract: The FAMS/CTES Explosives Detection Canine Handlers Course, Passenger Screening Canine Handler Course and the Supervisor/Trainer Seminars are given to state and local law enforcement officers as well as TSA personnel who are trained to be canine handlers. The state and local personnel participate under agency specific cooperative agreements in that portion of the TSA Grant program administered by the National Canine Program (NCP). The Handler Training Assessment Survey captures from graduating students numerical ratings and written comments about the quality of training instruction at the FAMS/CTES Explosives Detection Canine Handlers Course, Passenger Screening Canine Handler Course and the Supervisor/Trainer Seminars. The data are collected electronically through the NCP Canine Web site (a secure Web site accessible only by authorized personnel) and provides valuable feedback to the Supervisory Agent in Charge (SAC), CTES instructional staff and supervisors on how the training material was presented and received. The Assessment Surveys are mandatory for students who successfully complete training, but the students may remain anonymous when completing the survey. Once reviewed, the feedback is used to improve the course curriculum and course of instruction.

Number of Respondents: Average 180 students per calendar year.

Estimated Annual Burden Hours: Approximately one hour per participant, 180 hours per calendar year.

Issued in Arlington, Virginia, on March 21, 2013.
Susan L. Perkins,
TSA Paperwork Reduction Act Officer, Office of Information Technology.

[FR Doc. 2013-07047 Filed 3-26-13; 8:45 am]

BILLING CODE 9110-05-P